SECURITIES AND EXCHANGE COMMISSION

17 CFR Part 240

General Rules and Regulations, Securities Exchange Act of 1934

CFR Correction

In Title 17 of the Code of Federal Regulations, Part 240 to End, revised as of April, 1, 2003, § 240.17Ad-17 is corrected by revising paragraph (a)(3)(ii) to read as follows:

§ 240.17Ad-17 Transfer agents' obligation to search for lost securityholders.

(a) * * *

(3) * * *

(ii) The aggregate value of assets listed in the lost securityholder's account, including all dividend, interest, and other payments due to the lost securityholder and all securities owned by the lost securityholder as recorded in the transfer agent's master securityholder files, is less that $25; or

* * * * *

[FR Doc. 04-55503 Filed 3-19-04; 8:45 am]

BILLING CODE 1505-01-D